DEPARTMENT OF HEALTH AND HUMAN SERVICES

Office of the Secretary

Agency information collection activities: Proposed collections; Comment Request

The Department of Health and Human Services, Office of the Secretary will periodically publish summaries of proposed information collections projects and solicit public comments in compliance with the requirements of Section 3506(c)(2)(A) of the Paperwork Reduction Act of 1995. To request more information on the project or to obtain a copy of the information collection plans and instruments, call the OS Reports Clearance Officer on (202) 690-6207.

Comments are invited on: (a) Whether the proposed collection of information is necessary for the proper performance of the functions of the agency, including whether the information shall have practical utility; (b) the accuracy of the agency's estimate of the burden of the proposed collection of information; (c) ways to enhance the quality, utility and clarity of the information to be collected; and (d) ways to minimize the burden of the collection of information on respondents, including through the use of automated collection techniques or other forms of information technology.

Proposed Projects 1. Organizing an Institutional Investigation Assistance Program: A Feasibility Study—NEW—A review group charged with examining the Office of Research Integrity's role in handling allegations of research misconduct developed numerous recommendations. One of the recommendations stated that “HHS should encourage the development of a consortium-based approach to be used by awardee institutions that do not have the capacity to conduct the fact-finding process, or at which there is otherwise inadequate institutional or organizational capacity.” The Office of Research Integrity is proposing a survey of research institutions, educational institutions and related organizations to assess the expressed level of interest in the development of consortia. Respondents: Businesses or other for-profit, non-profit institutions; Number of Respondents: 1,000; Burden per Response: 20 minutes; Total Burden: 333 hours.

Send comments to Cynthia Agens Bauer, OS Reports Clearance Officer, Room 503H, Humphrey Building, 200 Independence Avenue SW., Washington DC, 20201. Written comments should be received within 60 days of this notice.

Dated: January 23, 2001.
Kerry Weems,
Acting Deputy Assistant Secretary, Budget.

[FR Doc. 01-2540 Filed 1-29-01; 8:45 am]

BILLING CODE 4150-31-M